DEPARTMENT OF THE INTERIOR

Bureau of Indian Affairs

25 CFR Part 70

RIN 1076-AD98

Certificate of Degree of Indian or Alaska Native Blood

AGENCY: Bureau or Indian Affairs, Interior.

ACTION: Proposed rule; reopening of comment period and additional public meetings.

SUMMARY: In keeping with Executive Order 13175, “Government-to-Government Consultation with Indian Tribes,” the Bureau of Indian Affairs (BIA) is scheduling several additional regional public sessions for representatives of Indian tribes to provide us with their comments and suggestions (dates, times and locations to be announced). The topic of discussion will be the proposed Certificate of Degree of Indian or Alaska Native Blood (CDIB) rules as published in the Federal Register on April 18, 2000. In order to provide sufficient time for submission of written comments, we are extending the comment period.

DATES: The comment period is extended from December 20, 2000, to the close of business on December 31, 2001, Central Standard Time.

ADDRESSES: You may mail your comments to Karen Ketcher, Branch of Tribal Operations, Eastern Oklahoma Region, Bureau of Indian Affairs, 101 North 5th Street, Muskogee, Oklahoma 74401.

FOR FURTHER INFORMATION CONTACT: Karen Ketcher, Branch of Tribal Operations, Eastern Oklahoma, Department of the Interior, Bureau of Indian Affairs, 215 State Street, Muskogee, Oklahoma 74401. You may also hand-deliver comments to us at this address in Room 408. For information about filing comments electronically, see the SUPPLEMENTARY INFORMATION section in the April 18, 2000, Federal Register notice.

SUPPLEMENTARY INFORMATION: On April 18, 2000, the BIA published a proposed rule, 25 CFR part 70 (65 FR 20775) which is to establish documentation requirements and standards for filing, processing, and issuing a CDIB. The purpose of this notice is to reopen the comment period and to provide additional public meetings. This reopening is in response to requests from Indian tribes and participants at our earlier public sessions. The previous December 20, 2000, deadline for receipt of comments was announced in the Federal Register notice of October 30, 2000 (65 FR 64643). The new deadline is close of business, Central Standard Time, on December 31, 2001. Each BIA regional office will notify the tribes within its respective jurisdiction of the dates, times, and locations of the public sessions, will publish notice of these public sessions in at least one newspaper of general circulation, and will post notices in appropriate public locations.

Dated: June 1, 2001.
James H. McDivitt
Deputy Assistant Secretary—Indian Affairs (Management).

[FR Doc. 01-15827 Filed 6-22-01; 8:45 am]

BILLING CODE 4310-02-P